DEPARTMENT OF JUSTICE

Antitrust Division

Notice Pursuant to the National Cooperative Research and Production Act of 1993—Rotorcraft Industry Technology Association, Inc. (“RITA”)

Notice is hereby given that, on March 22, 2001, pursuant to section 6(a) of the National Cooperative Research and Production Act of 1993, 15 U.S.C. 4301 et seq. (“the Act”), Rotorcraft Industry Technology Association, Inc. (“RITA”) has filed written notifications simultaneously with the Attorney General and the Federal Trade Commission disclosing changes in its membership and product status. The notifications were filed for the purposes of extending the Act's provisions limiting the recovery of antitrust plaintiffs to actual damages under specified circumstances. Specifically, Kaman Aerospace Corporation, Bloomfield, CT has been added as a Supporting Member of this venture; and The Mississippi State University Research and Technology Corporation, Mississippi State, MS has been added as an Associate Member. Also, RITA's joint research and development projects undertaken in cooperation with NASA, DoD/Army/Navy, and the FAA, are subject to a new Funded Cooperative Agreement, effective January 1, 2001. In addition, RITA's Intellectual Property Rights Provisions have been amended, effective February 1, 2001.

No other changes have been made in either the membership or planned activity of the group research project. Membership in this group research project remains open, and RITA intends to file additional written notification disclosing all changes in membership.

On September 28, 1995, RITA filed its original notification pursuant to section 6(a) of the Act. The Department of Justice published a notice in the Federal Register pursuant to section 6(b) of the Act on April 3, 1996 (61 FR 14817).

The last notification was filed with the Department on August 8, 2000. A notice was published in the Federal Register pursuant to section 6(b) of the Act on September 26, 2000 (65 FR 57843).

Constance K. Robinson,
Director of Operations, Antitrust Division.

[FR Doc. 01-10028 Filed 4-23-01; 8:45 am]

BILLING CODE 4410-11-M